DEPARTMENT OF LABOR

Bureau of Labor Statistics

Request for Comment

AGENCY: Bureau of Labor Statistics, Department of Labor.

ACTION: Request for comments.

SUMMARY: The Department of Labor through the Bureau of Labor Statistics (BLS) is currently soliciting comments concerning the planning, development, and implementation of a new National Longitudinal Survey of Youth (NLSY) cohort.

DATES: Written comments must be submitted by the methods listed in the ADDRESSES section of this notice on or before May 6, 2022.

ADDRESSES: You may submit written comments by one of the following methods:

On-line: http://www.regulations.gov. Follow the instructions for submitting comments.

Email: nlsy26info@bls.gov.

FOR FURTHER INFORMATION CONTACT: Safia Abdirizak, Economist, Bureau of Labor Statistics, abdirizak.safia@bls.gov.

SUPPLEMENTARY INFORMATION:

I. Background

BLS is currently developing plans for a new NLSY cohort. The BLS provided Congress with a 5-year development plan, which would culminate in fielding a first round of collection in 2026. This development plan is available in section IV below and at https://www.bls.gov/nls/nlsy26.htm. As part of this process, BLS is committed to engaging with new and experienced users of NLSY data to maximize the eventual utility of the new NLSY cohort. This request for information is one avenue of this engagement plan. The development of a new NLSY cohort will build upon BLS experience and analysis of its two ongoing NLSY cohorts.

1. National Longitudinal Survey of Youth 1979 (NLSY79)

The NLSY79 sample is composed of 12,686 young men and women who were born in the years 1957 to 1964. Data were first collected in 1979, when sample members were ages 14-22. In December 2021, BLS completed round 29 of data collection with NLSY79 sample members who were ages 55 to 63. BLS has followed this cohort of late Baby Boomers for over 40 years, recording their lives from their teens into their 50s and early 60s.

2. National Longitudinal Survey of Youth 1997 (NLSY97)

The NLSY97 began over 20 years ago with the collection of data from a sample of 8,984 youths who were born in the years 1980 to 1984. The sample members were ages 12-16 as of December 31, 1996. In Fall 2021, BLS began round 20 of data collection for this cohort with sample members ages 36 to 41.

More information about the ongoing NLSY cohorts is available at https://www.bls.gov/nls/.

The longitudinal approach of the NLSY cohorts provides data to economists, sociologists, and other researchers in government, academia, and private organizations to answer such questions as how wages change over time, how schooling and training contribute to the development and maintenance of skills to obtain and keep good jobs over one's career, how individuals navigate work and family responsibilities, and how individuals plan for retirement as their careers come to an end. To continue building on these longstanding strengths of the NLSY cohorts, BLS envisions that a new youth cohort would cover a broad range of topics related to labor market outcomes for a new generation entering the labor force.

Respondents in previous NLSY cohorts have been asked a core set of questions that provide extensive information on employment, training, education, income, assets, marital status, fertility, health, attitudes toward work, experiences with the criminal justice system, household composition, and occupational and geographical mobility. In addition, the previous cohorts were administered cognitive assessments. BLS anticipates that the new youth cohort will cover these same topics and include assessments of cognitive and non-cognitive skills, thus enabling the study of educational experiences, achievement, cognitive and non-cognitive skills, and the transition from school to work; training programs and training in the workplace; the value of early-career job exploration; geographic mobility; relationships between the workplace and the well-being of the family and family transitions; drug and alcohol use; juvenile delinquency and criminal behavior; fertility and childbearing; and employment and earnings of workers.

As with past NLSY cohorts, a new cohort would collect detailed information about each job held, including start and stop dates for each job and characteristics of each job such as wages, hours, occupation, and industry. Information about periods when no jobs are held would also be collected. Detailed information would be collected on education and training, and events such as marriage and divorce, as well as fertility, all of which affect labor market choices.

More information about the NLSY26 cohort and current BLS plans is available at https://www.bls.gov/nls/nlsy26.htm.

II. Current and Planned Engagement

In October 2020, the National Science Foundation funded a “Shaping a New National Longitudinal Survey of Youth” conference, which brought together academics from many disciplines, leaders from federal agencies, and independent researchers to share information about previous achievements of the NLSY cohorts, identify emerging and ongoing needs for studying upcoming workforce generations, and discuss how a new cohort could meet those needs. The conference served as a building block for additional stakeholder and user outreach for planning the NLSY26 cohort.

In addition, BLS has begun extensive consultation with stakeholders in government, academia, research and policy organizations, users of NLS products, and relevant advisory committees. BLS has consulted with members of its NLS Technical Review Committee and conducted outreach meetings with several government agencies including the Department of Justice, National Institute for Child Health and Human Development, Department of Health and Human Services, and the National Center for Educational Statistics.

BLS is currently planning for several additional outreach activities. First, BLS plans to engage with stakeholder organizations, such as the Council of Professional Associations on Federal Statistics (COPAFS), the Association of Public Data Users (APDU), the American Association for Public Opinion Research (AAPOR), the American Statistical Association (ASA), the American Economic Association (AEA), Population Association of America (PAA), and others, to inform them of BLS's current plans. This engagement will also be used to encourage their members to submit feedback to this Federal Register Notice and other future planned activities. In addition, BLS is planning to issue a user survey, host focus groups on various topics, and make available informational materials to enable feedback and insight from the stakeholder community's broad range of knowledge and interest. Each part of the current plan is described further below.

Informational Materials. NLSY informational materials will contain items to support organizations or individuals interested in learning more about the current NLSY cohorts and upcoming plans for the NLSY26 cohort. The materials will include sample email templates that entities can use to encourage their constituents to submit input, as well as presentations and fact sheets on a variety of content areas to support a discussion that would yield feedback. Users can submit feedback through the user survey and/or this Federal Register Notice.

User Survey. This survey will be designed to gain information from a wide range of stakeholders and data users while imposing a low burden on respondents. The proposed survey will ask about users' satisfaction with past questionnaire content and data access, as well as their priorities for a new youth cohort to inform BLS of anticipated research needs in the future. The user survey is available at the link below: https://www.bls.gov/nls/nlsy26.htm.

Focus Groups. A series of focus groups will be conducted to gather more detailed input and provide greater community engagement. These focus groups will include introductory information about NLSY cohorts to be accessible to a wide audience. The BLS will tailor the discussions towards survey features that are relevant to the associated user communities. These focus groups will seek feedback from both targeted stakeholders and user groups. BLS will conduct a series of six virtual sessions regarding: (1) Childhood and Family Retrospective; (2) Physical Health, Environment, and Climate; (3) Mental Health; (4) Employment, Jobs, and the Future of Work; (5) Innovations in International Surveys; and (6) Think tanks/Research organizations/Non-profits. Each session will involve 7 to 9 participants, representing a range of stakeholders and users with expertise in the session topic areas. These sessions may cover survey content and survey objectives, as well as usability and accessibility of data files for a new youth cohort.

III. Additional Information-Gathering Activities

In tandem with the user engagement activities described above, the BLS is conducting several activities to gather information that is relevant to its development of a new NLSY cohort. BLS has funded four content panels to provide opportunities for experts in different subject areas to make sure that emerging ideas, best practices, and relevant examples are brought forward for consideration for an NLSY26. Four panels are scheduled in FY2022 regarding: (1) Family and Early Childhood Retrospectives; (2) K-12 Education and Cognition; (3) Health and Environment; and (4) Department of Defense Initiatives and Assessments. Each panel is expected to have 4-7 members who will meet several times over the course of 3-5 months before determining their recommendations.

BLS has also funded a retrospective analysis of data from the NLSY79 and NLSY97 cohorts. This analysis will document past usage of different topics and variables, examine the publications that resulted from this usage, and compare the NLSY cohorts to other major longitudinal surveys and other BLS household surveys to identify areas of overlap.

Finally, BLS has funded a study to evaluate alternative (non-survey) data sources that may potentially be incorporated in the new NLSY cohort to improve accuracy, increase granularity, provide information on new topics, and/or reduce respondent burden. This study will include a broad scan to identify potentially useful sources, analyses to develop potential use cases, and information-gathering to allow assessment of the feasibility and value of each use case.

IV. NLSY26 Development Plan

As submitted to Congress, the following 5-year development plan would yield implementation of a new NLSY cohort in Fiscal Year 2026.

FY | Major tasks
2020 | Planning.
2021 | Stakeholder outreach, including conferences and web seminars; and continue planning, including content panels, assessments of sample frames, dissemination needs, and vendor capabilities.
2022 | Continue content panels and other design activities (including sampling, survey, materials, dissemination).
2023 | Complete content panels, continue design, and begin survey development (sampling, survey, questionnaire, materials, dissemination, and systems work).
2024 | Continue survey and systems development and begin pretesting preparations.
2025 | Pretest fielding, revisions to systems and the survey resulting from the pretest, and preparation for round 1 screening and data collection to occur in 2026.

V. Desired Focus of Comments

As BLS pursues the current and planned engagement and information-gathering activities described above to support development of a new NLSY cohort, BLS is also interested in hearing directly from the public in response to this FRN. BLS is particularly interested in comments and recommendations on the following aspects of the new NLSY cohort:

• Questionnaire content

• Survey methodology

• Sampling

• Data dissemination

The BLS welcomes comments on any aspect of the above areas and is especially interested in comments on:

• Research questions that a new cohort of the National Longitudinal Surveys program would address at different points in the life course.

• The distinctive role of NLSY cohorts among the range of survey and non-survey data sources.

• Factors that inform researchers' choice of data sources.

• Modifications in the coverage of specific topics compared to previous NLSY cohorts. This could include any gaps in the current data, `must keep' elements in the current data, or elements that are less valuable.

• Uses of data from a new NLSY cohort that BLS should anticipate and prioritize (e.g., training of young researchers, benchmarking specialized samples, policy analysis, cross-cohort comparisons, basic research on human behavior, etc.).

• Design and implementation features of a new NLSY cohort that users will find most valuable (e.g., accessible public use files, frequency of data collection, availability of biometric measures, oversamples of specific populations, linkage possibilities to selected administrative data, ease of use of data, alignment with other surveys, etc.).

• New social and economic trends that are important to consider in designing a new NLSY cohort.

• Any other issues BLS should consider in developing a new NLSY cohort.

In addition, BLS is open to hearing from the public about how to improve its current stakeholder engagement plans to promote equitable and diversified feedback as a new NLSY cohort is developed.

Comments submitted in response to this notice will be summarized and made available at https://www.bls.gov/nls/nlsy26.htm.

Signed at Washington, DC, on March 1, 2022.
Eric Molina,
Acting Chief, Division of Management Systems.

[FR Doc. 2022-04712 Filed 3-4-22; 8:45 am]

BILLING CODE 4510-24-P